FEDERAL MARITIME COMMISSION

Notice of Agreements Filed

The Commission hereby gives notice of filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreement are available through the Commission's website (www.fmc.gov) or by contacting the Office of Agreements at (202)-523-5793 or tradeanalysis@fmc.gov.

Agreement No.: 001941-005.

Agreement Name: Baltimore Marine Terminal Association.

Parties: Balterm LLC; Mid-Atlantic Terminal, LLC; Ports America Baltimore, Inc.; Ports America Chesapeake, LLC; SSA Atlantic, LLC.

Filing Party: Michael J. Collins; Law Offices of Michael J. Collins, PC.

Synopsis: There are three modifications. First, Ports America Baltimore, Inc. (“PAB”) was inadvertently omitted from the 2018 filing (it was included in the 2017 Agreement). The amendment corrects this mistake. PAB has been a member continuously included on the BMTA tariff, notwithstanding the error in 2018 that deleted PAB. Second, SSA Atlantic, LLC (“SSA”) acquired Ceres Terminals Corporation (“Ceres”) and is the surviving entity. Third, Ceres has been removed as a member, and SSA has been substituted as a member of the BMTA. SSA has updated its FMC-1.

Proposed Effective Date: 10/03/2024.

Location: https://www2.fmc.gov/FMC.Agreements.Web/Public/AgreementHistory/2109.

Dated: August 23, 2024.
Alanna Beck,
Federal Register Alternate Liaison Officer.

[FR Doc. 2024-19346 Filed 8-27-24; 8:45 am]

BILLING CODE 6730-02-P